DEPARTMENT OF THE INTERIOR

National Park Service

[NPS-WASO-NRNHL-19054;PPWOCRADP2, PCU00RP14.R50000]

National Historic Landmarks Committee of the National Park System Advisory Board Meeting

AGENCY: National Park Service, Interior.

ACTION: Notice of meeting.

SUMMARY: Notice is hereby given in furtherance of the Federal Advisory Committee Act, (5 U.S.C. Appendix 1-16), and Part 65 of title 36 of the Code of Federal Regulations, that a meeting of the National Historic Landmarks Committee of the National Park System Advisory Board will be held beginning at 10:00 a.m. on November 16, 2015, at the Charles Sumner School Museum and Archives. The meeting will continue beginning at 9:30 a.m. on November 17, 2015.

DATES: The meeting will be held on Monday, November 16, 2015, from 10:00 a.m. to 4:30 p.m.; and Tuesday, November 17 from 9:30 a.m. to 4:30 p.m. (EASTERN).

Location: The Charles Sumner School Museum and Archives, 3rd Floor, The Richard L. Hurlbut Memorial Hall, 1201 17th Street NW., Washington, DC 20036.

Agenda: The National Park System Advisory Board and its National Historic Landmarks Committee may consider the following nominations:

Connecticut

JAMES MERRILL HOUSE, Stonington, CT

THE STEWARD'S HOUSE, FOREIGN MISSION SCHOOL, Cornwall, CT

Florida

NORMAN STUDIOS, Jacksonville, FL

Indiana

ATHENAEUM (DAS DEUTSCHE HAUS), Indianapolis, IN

Michigan

GAUKLER POINTE (EDSEL AND ELEANOR FORD HOUSE), Macomb County, MI

Mississippi

MISSISSIPPI STATE CAPITOL, Jackson, MS

New York

ST. BARTHOLOMEW'S CHURCH AND COMMUNITY HOUSE, New York, NY

Ohio

ZOAR HISTORIC DISTRICT, Zoar, OH

Wisconsin

MAN MOUND, Sauk County, WI

Wyoming

AMES MONUMENT, Albany County, WY

HELL GAP PALEOINDIAN SITE, Goshen County, WY

Proposed Amendments to Existing Designations:

Maryland

MONOCACY BATTLEFIELD, City of Frederick and Frederick County, MD (updated documentation and boundary revision)

Ohio

JAMES A. GARFIELD HOME, Mentor, OH (updated documentation)

WILLIAM HOWARD TAFT HOME, Cincinnati, OH (updated documentation and name change)

The committee may also consider the following historic trail:

LEWIS AND CLARK EASTERN LEGACY NATIONAL HISTORIC TRAIL

FOR FURTHER INFORMATION CONTACT: Patricia Henry, Historian, National Historic Landmarks Program, National Park Service, 1849 C Street NW., Washington, DC 20240, telephone (202) 354-2216 or email: Patty_Henry@nps.gov.

SUPPLEMENTARY INFORMATION: The purpose of the meeting of the National Historic Landmarks Committee of the National Park System Advisory Board is to evaluate nominations of historic properties in order to advise the National Park System Advisory Board of the qualifications of each property being proposed for National Historic Landmark designation, and to make recommendations regarding the possible designation of those properties as National Historic Landmarks to the National Park System Advisory Board at a subsequent meeting at a place and time to be determined. The Committee also makes recommendations to the National Park System Advisory Board regarding amendments to existing designations and proposals for withdrawal of designation. The members of the National Historic Landmarks Committee are:

Dr. Stephen Pitti, Chair

Dr. James M. Allan

Dr. Cary Carson

Dr. Yong Chen

Mr. Douglas Harris

Ms. Mary Hopkins

Mr. Luis Hoyos, AIA

Dr. Sarah A. Leavitt

Dr. Barbara J. Mills

Dr. Michael E. Stevens

Dr. Amber Wiley

Dr. David Young

The meeting will be open to the public. Pursuant to 36 CFR part 65, any member of the public may file, for consideration by the National Historic Landmarks Committee of the National Park System Advisory Board, written comments concerning the National Historic Landmarks nominations, amendments to existing designations, or proposals for withdrawal of designation.

Comments should be submitted to J. Paul Loether, Chief, National Register of Historic Places and National Historic Landmarks Program, National Park Service, 1849 C Street NW., Washington, DC 20240, email: Paul_Loether@nps.gov.

Before including your address, telephone number, email address, or other personal identifying information in your comment, you should be aware that your entire comment—including your personal identifying information—may be made publicly available at any time. While you may ask us in your comment to withhold your personal identifying information from public review, we cannot guarantee that we will be able to do so.

Dated: August 31, 2015.
Alma Ripps,
Chief, Office of Policy.

[FR Doc. 2015-21952 Filed 9-3-15; 8:45 am]

BILLING CODE 4310-EE-P